DEPARTMENT OF TRANSPORTATION

Federal Aviation Administration

14 CFR Part 39

[Docket No. FAA-2020-0585; Product Identifier 2019-SW-112-AD]

RIN 2120-AA64

Airworthiness Directives; Airbus Helicopters

AGENCY: Federal Aviation Administration (FAA), DOT.

ACTION: Notice of proposed rulemaking (NPRM).

SUMMARY: The FAA proposes to adopt a new airworthiness directive (AD) for all Airbus Helicopters Model AS332C, AS332C1, AS332L, and AS332L1 helicopters. This proposed AD was prompted by reports of corrosion on attachment screws and fittings fastening the main gearbox (MGB) suspension bars to the fuselage. This proposed AD would require inspecting the affected parts and associated frame bores for discrepancies, and applicable corrective actions. The FAA is proposing this AD to address the unsafe condition on these products.

DATES: The FAA must receive comments on this proposed AD by September 3, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Airbus Helicopters, 2701 N Forum Drive, Grand Prairie, TX 75052; telephone 972-641-0000 or 800-232-0323; fax 972-641-3775; or at https://www.airbus.com/helicopters/services/technical-support.html. You may view this service information at the FAA, Office of the Regional Counsel, Southwest Region, 10101 Hillwood Pkwy., Room 6N-321, Fort Worth, TX 76177.

Examining the AD Docket

You may examine the AD docket on the internet at https://www.regulations.gov by searching for and locating Docket No. FAA-2020-0585; or in person at Docket Operations between 9 a.m. and 5 p.m., Monday through Friday, except Federal holidays. The AD docket contains this AD, the European Union Aviation Safety Agency (EASA) AD, any comments received, and other information. The street address for Docket Operations is listed above. Comments will be available in the AD docket shortly after receipt.

FOR FURTHER INFORMATION CONTACT: Kathleen Arrigotti, Aerospace Engineer, Large Aircraft Section, International Validation Branch, FAA, 2200 South 216th St., Des Moines, WA 98198; telephone and fax 206-231-3218; email kathleen.arrigotti@faa.gov.

SUPPLEMENTARY INFORMATION:

Comments Invited

The FAA invites you to send any written relevant data, views, or arguments about this proposal. Send your comments to an address listed under the ADDRESSES section. Include “Docket No. FAA-2020-0585; Product Identifier 2019-SW-112-AD” at the beginning of your comments. The most helpful comments reference a specific portion of the proposal, explain the reason for any recommended change, and include supporting data. The FAA will consider all comments received by the closing date and may amend this NPRM because of those comments.

Except for Confidential Business Information (CBI) as described in the following paragraph, and other information as described in 14 CFR 11.35, the FAA will post all comments received, without change, to https://www.regulations.gov, including any personal information you provide. The FAA will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Kathleen Arrigotti, Aerospace Engineer, Large Aircraft Section, International Validation Branch, FAA, 2200 South 216th St., Des Moines, WA 98198; telephone and fax 206-231-3218; email kathleen.arrigotti@faa.gov. Any commentary that the FAA receives which is not specifically designated as CBI will be placed in the public docket for this rulemaking.

Discussion

EASA, which is the Technical Agent for the Member States of the European Union, has issued EASA AD 2019-0295, dated December 5, 2019 (referred to after this as the Mandatory Continuing Airworthiness Information, or “the MCAI”), to correct an unsafe condition for all Airbus Helicopters Model AS332C, AS332C1, AS332L, and AS332L1 helicopters. EASA advises that there were reports of corrosion on attachment screws and fittings fastening the rear MGB suspension bars, right and left hand sides, to the fuselage, and the attachment screws and fitting fastening the front MGB suspension bar to the fuselage. Subsequent investigation determined that during maintenance visits of an identified batch of helicopters between September 2012 and April 2019, application of compound sealant on MGB suspension bar attachment screws may not have been accomplished using the approved maintenance data. The EASA AD requires a one-time inspection of the affected parts, and depending on findings, accomplishment of applicable corrective actions. The compliance times vary depending on helicopter configuration.

For helicopters identified in Airbus Helicopters Alert Service Bulletin AS332-53.02.05, Revision 1, dated March 2, 2020, the earliest inspection compliance time is within 100 flight hours or 6 months after the effective date of this AD, whichever occurs first. For helicopters identified in Airbus Helicopters Alert Service Bulletin AS332-53.02.07, Revision 0, dated October 21, 2019, the earliest inspection compliance time is within 100 flight hours after the effective date of this AD.

For helicopters identified in Airbus Helicopters Alert Service Bulletin AS332-53.02.05, Revision 1, dated March 2, 2020, the latest initial inspection compliance time is within 3,800 flight hours or 3 years and 6 months, whichever occurs first, since the last maintenance action at Airbus Helicopters Marignane. For helicopters identified in Airbus Helicopters Alert Service Bulletin AS332-53.02.07, Revision 0, dated October 21, 2019, the latest initial inspection compliance time is within 3,800 flight hours since last removal.

The FAA is issuing this proposed AD to address corrosion on attachment fittings and attachment screws for the MGB suspension bars. This condition, if not addressed, could lead to structural failure of the MGB attachment screws, resulting in detachment of MGB suspension bars from the fuselage and subsequent loss of control of the helicopter.

You may examine the MCAI in the AD docket on the internet at https://www.regulations.gov by searching for and locating Docket No. FAA-2020-0585.

Related Service Information Under 1 CFR Part 51

Airbus Helicopters has issued Alert Service Bulletin AS332-53.02.05, Revision 1, dated March 2, 2020; and Alert Service Bulletin AS332-53.02.07, Revision 0, dated October 21, 2019. The service information describes procedures for inspecting the attachment fittings and attachment screws of the MGB suspension bars and their frame bores for discrepancies and corrective actions. This inspection includes an inspection of the attachment fittings and attachment screws of the MGB suspension bars for corrosion and an inspection of the attachment screws for evidence of sealing compound. The corrective actions include replacing or repairing corroded parts and replacing screws that have sealing compound on them. These documents are distinct since they apply to different helicopter models in different configurations.

This service information is reasonably available because the interested parties have access to it through their normal course of business or by the means identified in the ADDRESSES section.

Other Related Service Information

The FAA reviewed Airbus Helicopters Alert Service Bulletin AS332-53.02.05, Revision 0, dated April 18, 2019. The service information describes procedures for inspecting the attachment fittings and attachment screws of the MGB suspension bars and their frame bores for discrepancies and corrective actions.

FAA's Determination

This product has been approved by the aviation authority of another country, and is approved for operation in the United States. Pursuant to the FAA's bilateral agreement with the State of Design Authority, the FAA has been notified of the unsafe condition described in the MCAI and service information referenced above. The FAA is proposing this AD after evaluating all the relevant information and determining the unsafe condition described previously is likely to exist or develop on other products of the same type design.

Proposed Requirements of This NPRM

This proposed AD would require accomplishing the actions specified in the service information described previously. This proposed AD also would require sending certain inspection results to the manufacturer.

Costs of Compliance

The FAA estimates that this proposed AD affects 12 helicopters of U.S. registry. The FAA estimates the following costs to comply with this proposed AD:

Estimated Costs for Required Actions
Labor cost | Parts cost | Cost per product | Cost on U.S. operators
16 work-hours × $85 per hour = $1,360 | $0 | $1,360 | $16,320

The FAA estimates that it would take about 1 hour per product to comply with the on-condition reporting requirement in this proposed AD. The average labor rate is $85 per hour. Based on these figures, the FAA estimates the cost of reporting the inspection results on U.S. operators to be $85 per product.

Paperwork Reduction Act

A federal agency may not conduct or sponsor, and a person is not required to respond to, nor shall a person be subject to penalty for failure to comply with a collection of information subject to the requirements of the Paperwork Reduction Act unless that collection of information displays a current valid OMB control number. The control number for the collection of information required by this proposed AD is 2120-0056. The paperwork cost associated with this proposed AD has been detailed in the Costs of Compliance section of this document and includes time for reviewing instructions, as well as completing and reviewing the collection of information. Therefore, all reporting associated with this proposed AD is mandatory. Comments concerning the accuracy of this burden and suggestions for reducing the burden should be directed to Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus Helicopters: Docket No. FAA-2020-0585; Product Identifier 2019-SW-112-AD.

(a) Comments Due Date

The FAA must receive comments by September 3, 2020.

(b) Affected ADs

None.

(c) Applicability

This AD applies to all Airbus Helicopters Model AS332C, AS332C1, AS332L, and AS332L1 helicopters, certificated in any category.

(d) Subject

Joint Aircraft Service Component (JASC) Code 5340, Fuselage main, attach fittings.

(e) Reason

This AD was prompted by reports of corrosion on attachment screws and fittings fastening the main gearbox (MGB) suspension bars to the fuselage. The FAA is issuing this AD to address corrosion on attachment fittings and attachment screws for the MGB suspension bars. This condition, if not addressed, could lead to structural failure of the MGB attachment screws, resulting in detachment of MGB suspension bars from the fuselage and subsequent loss of control of the helicopter.

(f) Compliance

Comply with this AD within the compliance times specified, unless already done.

(g) Definitions

Affected parts are attachment screws and fitting(s) fastening the parts identified in paragraphs (g)(1) and (2) of this AD.

(1) Rear MGB suspension bars, right and left sides, to the fuselage.

(2) Front MGB suspension bar to the fuselage.

(h) Inspection

Except as specified in paragraphs (j)(1) through (3) of this AD: Within the applicable compliance times identified in paragraph (h)(1) or (2) of this AD, inspect each affected part and its frame bores for discrepancies, in accordance with the Accomplishment Instructions, Section 3.B.2, of Airbus Helicopters Alert Service Bulletin AS332-53.02.05, Revision 1, dated March 2, 2020; or Airbus Helicopters Alert Service Bulletin AS332-53.02.07, Revision 0, dated October 21, 2019, as applicable. For the purposes of this inspection, a discrepancy may be indicated by corrosion on the MGB attachment fitting or by sealing compound on the attachment screws.

(1) Table 1 or 2, as applicable, of Section 1.E.2, “Compliance in service,” of Airbus Helicopters Alert Service Bulletin AS332-53.02.05, Revision 1, dated March 2, 2020.

(2) Table 1 of Section 1.E.2, “Compliance in service,” of Airbus Helicopters Alert Service Bulletin AS332-53.02.07, dated October 21, 2019.

(i) Corrective Action

Except as required by paragraph (j)(4) of this AD: If, during the inspection required by paragraph (h) of this AD, there is any discrepancy, before further flight, do the applicable corrective action (including replacing or repairing corroded parts and replacing screws that have sealing compound on them), in accordance with the Accomplishment Instructions, Section 3.B.2, of Airbus Helicopters Alert Service Bulletin AS332-53.02.05, Revision 1, dated March 2, 2020; or Alert Service Bulletin AS332-53.02.07, Revision 0, dated October 21, 2019, as applicable.

(j) Exceptions to Service Information Specifications

(1) Where Airbus Helicopters Alert Service Bulletin AS332-53.02.05, Revision 1, dated March 2, 2020, uses the phrase “Revision 0 of this Alert Service Bulletin issued on April 18, 2019,” this AD requires using “the effective date of this AD.”

(2) Where Airbus Helicopters Alert Service Bulletin AS332-53.02.07, Revision 0, dated October 21, 2019, uses the phrase “receipt of this Alert Service Bulletin,” this AD requires using “the effective date of this AD.”

(3) Where Airbus Helicopters Alert Service Bulletin AS332-53.02.05, Revision 1, dated March 2, 2020; and Alert Service Bulletin AS332-53.02.07, Revision 0, dated October 21, 2019, specify discarding parts, you are not required to discard parts.

(4) Where Airbus Helicopters Alert Service Bulletin AS332-53.02.05, Revision 1, dated March 2, 2020; and Alert Service Bulletin AS332-53.02.07, Revision 0, dated October 21, 2019, specify contacting Airbus Helicopters for repair instructions: This AD requires repair using a method approved by the Manager, Rotorcraft Standards Branch, FAA. The Manager's approval letter must specifically refer to this AD.

(k) Reporting

If, during the inspection required by paragraph (h) of this AD, there is any discrepancy, report the inspection results to Airbus Helicopters at the applicable time specified in paragraph (k)(1) or (2) of this AD. The report should include the information specified in Appendix 4.A. of Airbus Helicopters Alert Service Bulletin AS332-53.02.05, Revision 1, dated March 2, 2020; or Alert Service Bulletin AS332-53.02.07, Revision 0, dated October 21, 2019, as applicable.

(1) If the inspection was done on or after the effective date of this AD: Submit the report within 30 days after the inspection.

(2) If the inspection was done before the effective date of this AD: Submit the report within 30 days after the effective date of this AD.

(l) Credit for Previous Actions

For helicopters identified in Airbus Helicopters Alert Service Bulletin AS332-53.02.05, Revision 1, dated March 2, 2020: This paragraph provides credit for actions required by paragraphs (g) and (h) of this AD, if those actions were performed before the effective date of this AD using Airbus Helicopters Alert Service Bulletin AS332-53.02.05, Revision 0, dated April 18, 2019.

(m) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 1 hour per response, including the time for reviewing instructions, searching existing data sources, gathering and maintaining the data needed, and completing and reviewing the collection of information. All responses to this collection of information are mandatory. Send comments regarding this burden estimate or any other aspect of this collection of information, including suggestions for reducing this burden to Information Collection Clearance Officer, Federal Aviation Administration, 10101 Hillwood Parkway, Fort Worth, TX 76177-1524.

(n) Alternative Methods of Compliance (AMOCs)

(1) The Manager, Rotorcraft Standards Branch, FAA, may approve AMOCs for this AD. Send your proposal to: Manager, Rotorcraft Standards Branch, FAA, 10101 Hillwood Pkwy., Fort Worth, TX 76177; telephone 817-222-5110; email 9-ASW-FTW-AMOC-Requests@faa.gov.

(2) For operations conducted under a 14 CFR part 119 operating certificate or under 14 CFR part 91, subpart K, notify your principal inspector or lacking a principal inspector, the manager of the local flight standards district office or certificate holding district office, before operating any aircraft complying with this AD through an AMOC.

(o) Related Information

(1) The subject of this AD is addressed in European Union Aviation Safety Agency (EASA) AD 2019-0295, dated December 5, 2019. This EASA AD may be found in the AD docket on the internet at https://www.regulations.gov by searching for and locating Docket No. FAA-2020-0585.

(2) For service information identified in this AD, contact Airbus Helicopters, 2701 N Forum Drive, Grand Prairie, TX 75052; telephone 972-641-0000 or 800-232-0323; fax 972-641-3775; or at https://www.airbus.com/helicopters/services/technical-support.html. You may view this service information at the FAA, Office of the Regional Counsel, Southwest Region, 10101 Hillwood Pkwy., Room 6N-321, Fort Worth, TX 76177.

Issued on July 14, 2020.
Lance T. Gant,
Director, Compliance & Airworthiness Division, Aircraft Certification Service.

[FR Doc. 2020-15532 Filed 7-17-20; 8:45 am]

BILLING CODE 4910-13-P